DEPARTMENT OF THE INTERIOR

National Park Service

[NPS-WASO-NAGPRA-16152; PPWOCRADN0-PCU00RP14.R50000]

Notice of Intent To Repatriate Cultural Items: U.S. Department of the Interior, Bureau of Land Management, New Mexico State Office, Santa Fe, NM

AGENCY: National Park Service, Interior.

ACTION: Notice.

SUMMARY: The Bureau of Land Management, New Mexico State Office, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Bureau of Land Management, New Mexico State Office. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Bureau of Land Management, New Mexico State Office at the address in this notice by August 27, 2014.

ADDRESSES: Mr. Jesse Juen, State Director, Bureau of Land Management, New Mexico State Office, P.O. Box 27115, Santa Fe, NM 87502-0115, telephone (505) 954-2222.

SUPPLEMENTARY INFORMATION: Notice is here given in accordance with the Native American Graves Protection and Repatriation Act (NAGPRA), 25 U.S.C. 3005, of the intent to repatriate cultural items under the control of the Bureau of Land Management, New Mexico State Office, Santa Fe, NM, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 2013, four cultural items were relinquished to the BLM by an individual investigated as part of a law enforcement action. The cultural items include a Tsa'kwayna Katsina Friend (mask), Raven Bride Katsina Friend (mask), Nataska Ogre Katsina Friend (mask), and a One-Horn ritual headdress. The Katsina Friends (masks) consist of painted wood, cloth, leather, and feathers. The headdress consists of a painted gourd. They were acquired pursuant to a search warrant and through undercover purchase operations in 2008 and 2009 by BLM law enforcement agents as part of a multi-state investigation into the trafficking of artifacts and cultural materials code-named “Cerberus Action.” During the course of the ensuing criminal investigation, the Hopi Tribe of Arizona was contacted by law enforcement agents, and in subsequent meetings, members of the Hopi Tribe of Arizona identified the confiscated materials as sacred objects and objects of cultural patrimony. This information was needed to pursue prosecution under the criminal penalties for violating NAGPRA. Ultimately, the Department of Justice declined to prosecute and pursued several non-prosecution agreements that included relinquishment of some of the confiscated materials, including these four sacred objects/objects of cultural patrimony.

Tribal cultural authorities of the Pueblo of Acoma, New Mexico; the Hopi Tribe of Arizona; the Pueblo of Laguna, New Mexico; and the Zuni Tribe of the Zuni Reservation, New Mexico, were contacted by BLM cultural resources staff, and the Hopi Tribe of Arizona identified the objects as sacred objects and objects of cultural patrimony eligible for repatriation under NAGPRA. The tribal cultural authorities recognized the materials used in the construction of the objects, as well as the objects' style and type. Consequently, these tribal consultants were able to determine that the items are culturally affiliated specifically with the Hopi Tribe of Arizona.

Determinations Made by the Bureau of Land Management, New Mexico State Office

Officials of the Bureau of Land Management, New Mexico State Office have determined that:

• Pursuant to 25 U.S.C. 3001(3)(C), the four cultural items described above are specific ceremonial objects needed by traditional Native American religious leaders for the practice of traditional Native American religions by their present-day adherents.

• Pursuant to 25 U.S.C. 3001(3)(D), the four cultural items described above have ongoing historical, traditional, or cultural importance central to the Native American group or culture itself, rather than property owned by an individual.

• Pursuant to 25 U.S.C. 3001(2), there is a relationship of shared group identity that can be reasonably traced between the four sacred objects/objects of cultural patrimony and the Hopi Tribe of Arizona.

Additional Requestors and Disposition

Lineal descendants or representatives of any Indian tribe or Native Hawaiian organization not identified in this notice that wish to claim these cultural items should submit a written request with information in support of the claim to Mr. Jesse Juen, State Director, Bureau of Land Management, New Mexico State Office, P.O. Box 27115, Santa Fe, NM 87502-0115, telephone (505) 954-2222, by August 27, 2014. After that date, if no additional claimants have come forward, transfer of control of the sacred objects/objects of cultural patrimony to the Hopi Tribe of Arizona may proceed.

The Bureau of Land Management, New Mexico State Office is responsible for notifying the Hopi Tribe of Arizona, the Pueblo of Acoma, New Mexico; the Pueblo of Laguna, New Mexico, and the Zuni Tribe of the Zuni Reservation, New Mexico that this notice has been published.

Dated: July 2, 2014.
David Tarler,
Acting Manager, National NAGPRA Program.

[FR Doc. 2014-17735 Filed 7-25-14; 8:45 am]

BILLING CODE 4312-50-P